DEPARTMENT OF COMMERCE

National Oceanic and Atmospheric Administration

[I.D. 020100B]

Fishing Vessel Declaration For Western Gulf of Maine Restricted Fishery Program; Proposed Information Collection; Comment Request

AGENCY: National Marine Fisheries Service (NMFS), National Oceanic and Atmospheric Administration (NOAA), Commerce.

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before April 4, 2000.

ADDRESSES: Direct all written comments to Linda Engelmeier, Departmental Forms Clearance Officer, Department of Commerce, Room 5027, 14th and Constitution Avenue NW, Washington DC 20230 (or via Internet at LEngelme@doc.gov).

FOR FURTHER INFORMATION CONTACT: Requests for additional information or copies of the information collection instrument(s) and instructions should be directed to Richard A. Pearson, One Blackburn Drive, Gloucester, MA 01930, 978-281-9279.

SUPPLEMENTARY INFORMATION:

I. Abstract

The New England Fishery Management Council (NEFMC) is currently considering management alternatives for the Gulf of Maine (GOM) multispecies fishery for inclusion in Framework Adjustment 33 to the Northeast Multispecies Fishery Management Plan (FMP). Two of the potential management measures have collection-of-information requirements associated with them.

These are the Western Gulf of Maine (WGOM) Restricted Fishery Program and the Multispecies Party/Charter Closed Area Exemption Certificate. These are described here.

Western GOM Restricted Fishery Program.

One of the management measures proposes to establish a new declaration that would allow vessel owners to annually enroll into a program entitled the Western Gulf of Maine (WGOM) Restricted Fishery Program. Vessels enrolled in this program would be allowed access to the area referred to as the WGOM Restricted Fishery Area, but would be limited to 25 Days-At-Sea or 25 trips, whichever is less, during the months of February, March, April and May in any fishing year. Vessels not enrolled in the WGOM Restricted Fishery Program category would be prohibited from fishing in the WGOM restricted fishery area during these months.

The WGOM restricted fishery area has preliminarily been described as an area extending from 43°50' N. Lat. and the Maine coast to 43°50' N. Lat., 70°00' W. Long. to 43°00' N. Lat., 70°15' W. Long. to 42°00' N. Lat., 70°15' W. Long. to 42°00' and the Massachusetts coast.

Multispecies Party/Charter GOM Closed Area Exemption Certificate

This proposed management measure would require vessel owners possessing a multispecies party/charter Federal permit, or operating a vessel as a party/charter vessel and fishing for multispecies, to obtain an exemption certificate to be allowed access to fish in GOM closed areas. This exemption certificate would allow access to GOM closed areas but would prohibit the vessel owner from utilizing multispecies days-at-sea while carrying passengers for hire on-board the vessel for the duration of the exemption certificate. Three potential duration periods have been proposed for the certificate, three months, six months and 12 months.

II. Method of Collection

Vessel owners electing to enroll into the WGOM Restricted Fishery Program would be required to complete an application form. Vessel owners would apply for the Multispecies Party/Charter GOM Closed Area Exemption Certificate by making a phone call.

III. Data

OMB Number: None.

Form Number: None.

Type of Review: Regular submission.

Affected Public: Business or other for-profit.

Estimated Number of Respondents: 1,003.

Estimated Time Per Response: 5 minutes for the Western GOM Restricted Fishery Program and 2 minutes for the Multispecies Party/Charter GOM Closed Area Exemption Certificate.

Estimated Total Annual Burden Hours: 57.

Estimated Total Annual Cost to Public: $438.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and /or included in the request for OMB approval of this information collection; they also will become a matter of public record.

Dated: January 28, 2000.
Linda Engelmeier,
Departmental Forms Clearance Officer, Office of Chief Information Officer.

[FR Doc. 00-2575 Filed 2-3-00; 8:45 am]

BILLING CODE 3510-22-F